OFFICE OF THE DIRECTOR OF NATIONAL INTELLIGENCE

Submission for Review: Financial Disclosure Form (SF-714)

AGENCY: Office of the Director of National Intelligence.

ACTION: 30-Day notice of request for extension of the SF-714.

The Personnel Security Group, Special Security Directorate, National Counterintelligence and Security Center, Office of the Director of National Intelligence (ODNI) offers notification of the request for extension to an existing information collection request (ICR) SF-714. This request is for an extension of the expiration date of the current SF-714 for an additional three years. As required by the Paperwork Reduction Act of 1995, as amended by the Clinger-Cohen Act, ODNI solicited comments for this collection during a 60 day Federal Register posting. No public comments were received during the 60 day posting. However, comments were received from ODNI internal review that, while non-substantive to the contents of the form, led to minor corrections in the Privacy Act Statement. Comments in regard to this request for extension can be sent to the Office of Management and Budget, who is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments are encouraged and will be accepted until July 1, 2022. This process is conducted in accordance with 5 CFR 1320.1.

ADDRESSES: Interested persons are invited to submit written comments on the proposed information collection to OMB.

SUPPLEMENTARY INFORMATION: In December 2011, the ODNI accepted responsibility from the Information Security Oversight Office (ISOO) to manage the continuation in existence of Standard Form 714: Financial Disclosure Report, in accordance with the responsibilities assigned to the Director of National Intelligence (DNI) as Security Executive Agent for all departments and agencies of the U.S. Government. Pursuant to the responsibilities assigned to the Director of National Intelligence as the Security Executive Agent under Executive Order 13467, Executive Order 12968, and Section 803 of the National Security Act (50 U.S.C. 3162a), the SF-714 collects information that is used to assist in making determinations regarding access to specifically designated types of classified information. The information will be used to help make personnel security determinations, including whether to grant a security clearance; to allow access to classified information, sensitive areas, and equipment; or to permit assignment to sensitive national security positions. The data may later be used as part of a review process to evaluate continued eligibility for access to classified information or as evidence in legal proceedings.

The renewal notice was posted in the Federal Register for 60 days, from November 30, 2021 to January 31, 2022 for public comment. No public comments were received during that period.

Analysis

Agency: Personnel Security Group, Special Security Directorate, the National Counterintelligence and Security Center, Office of the Director of National Intelligence.

Title: Financial Disclosure Report.

OMB Number: 3095-0058.

Agency Form Number: SF-714.

Frequency: Annually.

Affected Public: Individuals or Households.

Number of Respondents: 86,000.

Estimated Time per Respondent: 120 minutes.

Total Burden Hours: 172,000 annually.

Office of the Director of National Intelligence.
Dated: May 27, 2022.
Gregory Koch,
Director, Information Management Office.

[FR Doc. 2022-11845 Filed 5-31-22; 8:45 am]

BILLING CODE 9500-01-P-P